DEPARTMENT OF DEFENSE

Office of the Secretary

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received on or before January 5, 2001.

ADDRESSES: Written comments and recommendations on the proposed information collection should be sent to the Office of the Under Secretary of Defense (Personnel and Readiness) (Force Management Policy/Military Community and Family Policy/Office of Educational Opportunity), ATTN: Ms. Ollie M. Smith, Ballston Towers #3, Room 917, 4015 Wilson Blvd., Arlington, VA 22203-5190.

FOR FURTHER INFORMATION CONTACT: To request more information on this proposed information collection or to obtain a copy of the proposal and associated collection instruments, please write to the above address or call at (703) 696-1702, ext 111.

Title, associated form, and OMB control number: The Public and Community Service (PACS) Registry Programs, DD Forms 2580, 2581 and 2581-1; OMB Number 0704-0324.

Needs and Uses: This information collection requirement is used to enroll Service members retiring under the Temporary Early Retirement Authority (TERA) program in Public and Community Service (PACS). In accordance with 10 U.S.C. 1143(c), the Public and Community Service (PACS) Registry provides registered PACS organizations with information regarding the availability of individuals with interest in working in a PACS organization. The forms associated with this information collection, DD Forms 2580, 2581, and 2581-1, are used in support of the Department of Defense Programs for public service employment assistance.

Affected public: Business or other for-profit; not-for-profit institutions; Federal, local and State government.

Annual burden hours: 1,500 hours.

Number of respondents: 150.

Responses per respondent: 1.

Average burden per response: 10 minutes.

Frequency: On occasion.

SUPPLEMENTARY INFORMATION:

Summary of Information Collection

This collection is required to satisfy Public Law 102-484, The Defense Department's Fiscal Year 1993 Authorization Act, October 23, 1992, which directed the Secretary of Defense to maintain a public and community service registry in which separating Service members would be encouraged to enter. DD Forms 2580, 2581 and 2581-1 are used to support this effort.

Dated: October 31, 2000.
Patricia L. Toppings,
Alternate OSD Federal Register Liaison Officer, Department of Defense.

[FR Doc. 00-28319 Filed 11-3-00; 8:45 am]

BILLING CODE 5001-10-M